DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before August 2, 2001.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on June 28, 2001.
Ryan Posten,
Exemptions Program Officer, Office of Hazardous Materials Exemptions and Approvals.

New Exemptions
Application No. | Docket No. | Applicant | Regulation(s) affected | Nature of exemption thereof
12714-N | RSPA-01-9834 | Scientific Cylinder Corporation, Englewood, CO | 49 CFR 173.302(c)(2), (4) & (5), 173.34(c)(2), (e)(3), (e)(4) | To authorize the transportation in commerce of certain cylinders which have been alternatively ultrasonically retested for use in transporting Division 2.1, 2.2 and 2.3 materials. (Modes 1, 2, 3, 4.).
12715-N | RSPA-01-9926 | Arkansas Eastman, Eastman Chemical Co., Batesville, AR | 49 CFR 172.203(a), 172.302(c), 174.67(i) & (j) | To authorize rail cars containing chlorine to remain standing while connected without the physical presence of an unloader. (Mode 2.).
12716-N | RSPA-01-9930 | Air Liquide America Corporation, Houston, TX | 49 CFR 173.304(a)(2) | To authorize the transportation in commerce of chlorine in uninsulated DOT Specification 3AAX cylinders permanently mounted on a motor vehicle. (Mode 1.).
12718-N | RSPA-01-9921 | Weldship Corporation, Bethlehem, PA | 49 CFR 172.301, 173.34(e), 173.34(e)(3), 173.34(e)(4), 173.34(e)(5), 173.34(e)(6), 173.34(e)(7), 173.34(e)(8) | To authorize the transportation in commerce of certain DOT-3AL seamless aluminum cylinders constructed of alloy 6061 that have been alternatively ultrasonically retested for use in transporting Division 2.1, 2.2, 2.3 materials. (Modes 1, 2, 3, 4.).
12719-N | RSPA-01-9931 | Bechtel Jacobs Company LLC, Oak Ridge, TN | 49 CFR 173.211, 173.244 | To authorize the transportation in commerce of bulk and non-bulk aluminum containers used in transporting sodium, Division 4.3. (Mode 1.).
12720-N | RSPA-01-9917 | American Honda Motor Company, Torrance, CA | 49 CFR 176.76(a)(4) | To authorize the transportation in commerce of electrolyte batteries in specially designed packagings, overpacked in a motor vehicle not subject to the requirements of the HMR, without securing the overpack to the floor of the intermodal freight container or trailer. (Modes 1, 2, 3, 4.).
12724-N | RSPA-01-9888 | E.I. DuPont de Nemours & Co., Inc., Wilmington, DE | 49 CFR 178.345-10(b)(3), 180.405(h) | To authorize the transportation in commerce of MC 312 cargo tanks equipped with pressure relief systems that do not withstand the dynamic pressure surges in excess of the design set pressure. (Mode 1.).
12726-N | RSPA-01-9884 | Air Transport Association, Washington, DC | 49 CFR 173.304(a)(1), 173.305, 173.309, 173.34(e), 175.3 | To authorize the transportation in commerce of fire extinguishers to be shipped with an alternative proper shipping name as specified in several exemptions. (Modes 1, 2, 4, 5.).
12727-N | RSPA-01-9987 | Tri-West Packaging, Corona, CA | 49 CFR 173.12(b)(2)(i) | To authorize the manufacture, marking and sale of certain UN 11HH2 intermediate bulk containers for use as the outer packaging for lab pack applications. (Mode 1.).
12728-N | RSPA-01-9889 | Eagle-Picher Technologies, LLC, Joplin, MO | 49 CFR 173.3, 173.302(a), 173.34(d) | To authorize the transportation in commerce of certain non-DOT specification pressure vessels containing compressed hydrogen, which are a component part of a nickel-hydrogen battery. (Modes 1, 4.).
12729-N | RSPA-01-9883 | Mallinckrodt/Tyco Healthcare, Indianapolis, IN | 49 CFR 178.57(d)(5), (e)(3), (e)(4) | To authorize the manufacture, marking, sale and use of non-DOT specification cylinders conforming in part with DOT Specification 4L used for crygenic materials, Division 2.2. (Mode 1.).

[FR Doc. 01-16662 Filed 7-2-01; 8:45 am]

BILLING CODE 4910-60-M